DEPARTMENT OF THE INTERIOR

Bureau of Land Management

[LLCAC06900.L17100000.DR0000]

Notice of Availability of the Record of Decision for the Carrizo Plain National Monument Resource Management Plan/Environmental Impact Statement

AGENCY: Bureau of Land Management, Interior.

ACTION: Notice of availability.

SUMMARY: The Bureau of Land Management (BLM) announces the availability of the Record of Decision (ROD)/Approved Resource Management Plan (RMP) for the Carrizo Plain National Monument (CPNM), located in San Luis Obispo and Kern counties in Central California. The California State Director signed the ROD on April 10, 2010, which constitutes the final decision of the BLM and makes the Approved RMP effective immediately.

ADDRESSES: Copies of the ROD/Approved RMP are available upon request from the Field Manager, Bakersfield Field Office, Bureau of Land Management, 3801 Pegasus Drive, Bakersfield, CA 93308 or via the Internet at http://www.ca.blm.gov/bakersfield. Copies of the ROD/Approved RMP are available for public inspection at the above location and at the BLM California State Office, 2800 Cottage Way, Sacramento, CA 95825.

FOR FURTHER INFORMATION CONTACT: For further information contact Johna Hurl, CPNM Manager, telephone (661) 391-6093; address Bakersfield Field Office, Bureau of Land Management, 3801 Pegasus Drive, Bakersfield, CA 93308; e-mail johna_hurl@ca.blm.gov.

SUPPLEMENTARY INFORMATION: The CPNM encompasses 206,635 acres of BLM-administered public lands. This Approved RMP provides for the protection of the significant natural and cultural resources identified in the Presidential Proclamation establishing the CPNM. The decisions promulgated in the RMP only apply to the BLM-administered public lands and mineral estate within the Approved RMP's planning area. The RMP was developed in cooperation with the BLM's managing partners (The Nature Conservancy and California Department of Fish and Game), the CPNM Advisory Committee, and the public. The RMP process considered four alternatives including a no-action alternative. The primary issues addressed include but are not limited to recreation, protection of sensitive natural and cultural resources, livestock grazing, energy and mineral development, and motorized vehicle routes.

The Preferred Alternative in the Draft RMP/Draft Environmental Impact Statement (EIS), published January 23, 2009, was revised to address comments received during the 90-day public comment period. The resultant alternative became the Proposed Plan in the Proposed RMP/Final EIS, published on November 13, 2009, and has been carried forward as the Approved RMP. Changes made from the Draft RMP to the Final RMP in response to public comments include: An additional 13,181 acres to be managed for wilderness characteristics, in addition to the 54,464 acres proposed in the Draft RMP preferred alternative; a requirement that only street-legal vehicles, no off-highway vehicles, be allowed on designated routes; and provisions to provide access for vehicles operated by people with physical handicaps. Finally, language was clarified regarding grazing and mineral rights.

Three protests were received during the 30-day protest period following the release of the Proposed RMP/Final EIS, each of which was dismissed or denied by the BLM Director. Minor clarifications and changes to the text were made between the Proposed RMP/Final EIS and the ROD/Approved RMP, including clarifications to the protection of the CPNM's vernal pool and sag pond habitats, and the application of the mitigation measures listed in Appendices O and P, as appropriate (to be performed in subsequent site-specific NEPA processes).

The California Governor's Office did not identify any inconsistencies between the Proposed RMP/Final EIS and State or local plans, policies, and programs following the 60-day Governor's Consistency Review (initiated November 13, 2009) in accordance with planning regulations at 43 CFR, Part 1610.3-2(e).

The BLM has determined that this ROD/Approved RMP provides for long-term protection of the CPNM's values, while allowing for authorized uses, recreation activities, scientific studies, and interpretive facilities.

The ROD/Approved RMP contains decisions that identify initial management treatments in particular habitats and vegetative communities, identify wildland fire objectives and appropriate response levels, limit use on routes located in areas managed for wilderness characteristics, require permits for aerial sports (e.g., hang gliding, skydiving, hobby aircraft), provide for guided tours at Painted Rock, and define the priority, framework, and evaluation/approval process for research projects within the CPNM. These decisions, which are contained in Attachment C of the ROD/Approved RMP, are implementation decisions and are appealable under 43 CFR part 4.

Any party adversely affected by an implementation decision may appeal within 30 days of publication of this Notice of Availability pursuant to 43 CFR, part 4, subpart E. The appeal must be filed with the Bakersfield Field Manager at the above listed address. Please consult the appropriate regulations (43 CFR, part 4, subpart E) for further appeal requirements.

Timothy Z. Smith,
Field Manager, Bakersfield Field Office.

Authority: 40 CFR 1506.6.

[FR Doc. 2010-8434 Filed 4-8-10; 4:15 pm]

BILLING CODE 4310-40-P